DEPARTMENT OF HOMELAND SECURITY

Notice to Nonimmigrant Aliens Subject To Be Enrolled in the United States Visitor and Immigrant Status Indicator Technology System; Correction

AGENCY: Department of Homeland Security.

ACTION: Notice; correction.

SUMMARY: The Department of Homeland Security published a document in the Federal Register of January 5, 2004, requiring certain nonimmigrant aliens to provide fingerprints, photographs or other biometric identifiers if arriving in or departing from the United States through designated air or sea ports of entry on or after January 5, 2004. The document contained an incorrect telephone number.

FOR FURTHER INFORMATION CONTACT: Steve Yonkers, Privacy Officer, US-VISIT, Border and Transportation Security, U.S. Department of Homeland Security, Washington, DC 20528, telephone (202) 298-5200.

SUPPLEMENTARY INFORMATION: In the Federal Register of January 5, 2004, in FR Doc. 03-32333, on page 484, in the second column, correct the telephone number for Steve Yonkers to read: Steve Yonkers, Privacy Officer, US-VISIT, Border and Transportation Security, U.S. Department of Homeland Security, Washington, DC 20528. Phone (202) 298-5200. Fax (202) 298-5201.

Dated: January 12, 2004.
Nuala O'Connor Kelly,
Chief Privacy Officer.

[FR Doc. 04-1015 Filed 1-15-04; 8:45 am]

BILLING CODE 4410-10-P